DEPARTMENT OF ENERGY

Federal Energy Regulatory Commission

[Project No. 1922-052]

Ketchikan Public Utilities; Notice of Application Accepted for Filing and Soliciting Motions To Intervene and Protests

Take notice that the following hydroelectric application has been filed with the Commission and is available for public inspection.

a. Type of Application: Subsequent License.

b. Project No.: 1922-052.

c. Date Filed: October 27, 2022.

d. Applicant: Ketchikan Public Utilities (KPU).

e. Name of Project: Beaver Falls Hydroelectric Project (project).

f. Location: On Beaver Falls Creek in Ketchikan Gateway Borough, Alaska. The project currently occupies 478.4 acres of United States lands administered by U.S. Forest Service.

g. Filed Pursuant to: Federal Power Act 16 U.S.C. 791 (a)-825(r).

h. Applicant Contact: Jennifer Holstrom, Senior Project Engineer, Ketchikan Public Utilities, 1065 Fair Street, Ketchikan, Alaska 99901; (907) 228-4733; or email at jenniferh@ktn-ak.us.

i. FERC Contact: Kristen Sinclair at (202) 502-6587, or kristen.sinclair@ferc.gov.

j. Deadline for filing motions to intervene and protests: June 23, 2023.

The Commission strongly encourages electronic filing. Please file motions to intervene and protests using the Commission's eFiling system at https://ferconline.ferc.gov/FERCOnline.aspx. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. All filings must clearly identify the project name and docket number on the first page: Beaver Falls Hydroelectric Project (P-1922-052).

The Commission's Rules of Practice and Procedure require all interveners filing documents with the Commission to serve a copy of that document on each person on the official service list for the project. Further, if an intervener files comments or documents with the Commission relating to the merits of an issue that may affect the responsibilities of a particular resource agency, they must also serve a copy of the document on that resource agency.

k. This application has been accepted for filing, but is not ready for environmental analysis at this time.

l. The existing Beaver Falls Project consists of two developments: Silvis and Beaver Falls. The Silvis development consists of: (1) a 60-foot-high, 135-foot-long concrete-face, rock-filled Upper Silvis Lake dam; (2) an 800-foot-long excavated rock spillway channel leading from Upper Silvis Lake to Lower Silvis Lake; (3) a 300-acre reservoir (Upper Silvis Lake) with gross storage capacity of approximately 38,000 acre-feet; (4) a 980-foot-long underground power tunnel connecting to a 375-foot-long, 36-inch-diameter steel penstock that conveys water to the Silvis Powerhouse; (5) a 30-feet by 40-feet by 25-feet-high Silvis powerhouse containing a single Francis-type turbine with a rated capacity of 2.1 megawatts; (6) a 150-foot-long trapezoidal shaped channel tailrace discharging into Lower Silvis Lake; (7) a 2,900-foot-long, 5-kilovolt submarine cable beneath Lower Silvis Lake; (8) a 7,000-foot-long, 34.5- kilovolt aerial transmission line; and (9) appurtenant facilities.

The Beaver Falls development consists of: (1) a 32-foot-high, 140-foot-long concrete-face, rock-filled Lower Silvis dam; (2) a spillway with an ungated control weir and unlined rock discharge channel; (3) a 67.5-acre reservoir (Lower Silvis Lake) with gross storage capacity of approximately 8,052 acre-feet; (4) a 3-foot-high, 40-foot-long concrete diversion dam on Beaver Falls Creek; (5) a 3,800-foot-long underground power tunnel connecting to a 3,610-foot-long above ground steel penstock that conveys water from Lower Silvis Lake to the Beaver Falls powerhouse and supplies water to Units 3 and 4 in the powerhouse; (6) a 225-foot-long adit that taps the 3,800-foot-long underground power tunnel and discharges water into Beaver Falls Creek approximately 500-feet upstream of the Beaver Falls diversion dam; (7) a 4,170-foot-long above ground steel penstock that conveys water from the Beaver Falls Creek diversion dam to the Beaver Falls powerhouse and supplies Unit 1 in the powerhouse; (8) a 30-feet by 147-feet by 25-feet-high Beaver Falls powerhouse containing three horizontal Pelton generating units with a total installed capacity of 5 MW (Units 1, 3 and 4; Unit 2 is decommissioned); (9) a Beaver Falls substation; and (10) appurtenant facilities. The project generates an annual average of 54,711,280 megawatt-hours.

m. A copy of the application is available for review via the internet through the Commission's Home Page (http://www.ferc.gov), using the “eLibrary” link. Enter the docket number, excluding the last three digits in the docket number field, to access the document. At this time, the Commission has suspended access to the Commission's Public Reference Room. For assistance, contact FERC at FERCOnlineSupport@ferc.gov or call toll free, (886) 208-3676 or TTY (202) 502-8659.

You may also register online at https://ferconline.ferc.gov/FERCOnline.aspx to be notified via email of new filings and issuances related to this or other pending projects. For assistance, contact FERC Online Support.

n. Anyone may submit a protest or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received on or before the specified deadline date for the particular application.

When the application is ready for environmental analysis, the Commission will issue a public notice requesting comments, recommendations, terms and conditions, or prescriptions.

All filings must (1) bear in all capital letters the title “PROTEST” or “MOTION TO INTERVENE;” (2) set forth in the heading the name of the applicant and the project number of the application to which the filing responds; (3) furnish the name, address, and telephone number of the person protesting or intervening; and (4) otherwise comply with the requirements of 18 CFR 385.2001 through 385.2005. Agencies may obtain copies of the application directly from the applicant. A copy of any protest or motion to intervene must be served upon each representative of the applicant specified in the particular application.

o. Procedural schedule: The application will be processed according to the following schedule. Revisions to the schedule will be made as appropriate.

Issue Scoping Document 1 for comments—May 2023

Comments on Scoping Document 1 Due—June 2023

Issue Scoping Document 2 (if necessary)—July 2023

Request Additional Information (if necessary)—July 2023

Issue Notice of Ready for Environmental Analysis—August 2023

Dated: April 24, 2023.
Kimberly D. Bose,
Secretary.

[FR Doc. 2023-09028 Filed 4-27-23; 8:45 am]

BILLING CODE 6717-01-P